LEGAL SERVICES CORPORATION

Sunshine Act Notice; Meeting of the Performance Reviews Committee of the Legal Services Corporation's Board of Directors

Time and Date: The Performance Reviews Committee of the Legal Services Corporation's Board of Directors will meet at 10 a.m. Central Daylight Time on July 19, 2007.

Location: The American Bar Association, 321 North Clark Street, 15th Floor, in the Journal Conference Room, Chicago, Illinois.

Status of Meeting: Open, except as noted below. A verbatim written transcript of the session will be made. The transcript of any portions of the closed session falling within the relevant provision of the Government in Sunshine Act, 5 U.S.C. 552b(c)(6), and LSC's implementing regulation, 45 CFR 1622.5(e), will not be available for public inspection. The transcript of any portions not falling within either of these provisions will be available for public inspection.

Matters to be Considered:

Open Session

1. Approval of Agenda.

2. Consider and act on whether to go into closed session for agenda item number 3.

Closed Session

3. Consider and act on the recommendation to make to the full Board on the annual performance review of the LSC Inspector General.

Open Session

4. Consider and act on other business.

5. Consider and act on adjournment of meeting.

Contact Person for Information: Patricia D. Batie, Manager of Board Operations, at (202) 295-1500.

Special Needs: Upon request, meeting notices will be made available in alternate formats to accommodate visual and hearing impairments. Individuals who have a disability and need an accommodation to attend the meeting may notify Patricia D. Batie, at (202) 295-1500.

Dated: July 11, 2007.
Victor M. Fortuno,
Vice President for Legal Affairs, General Counsel & Corporate Secretary.

[FR Doc. 07-3454 Filed 7-11-07; 2:15 pm]

BILLING CODE 7050-01-M